DEPARTMENT OF COMMERCE

National Oceanic and Atmospheric Administration

[I.D. 032503B]

Endangered Species; File No.1429

AGENCY: National Marine Fisheries Service (NMFS), National Oceanic and Atmospheric Administration (NOAA), Commerce.

ACTION: Issuance of permit.

SUMMARY: Notice is hereby given that Southeast Fisheries Science Center (SEFSC), National Marine Fisheries Service, 75 Virginia Beach Drive, Miami, FL 33149, has been issued a permit to take loggerhead (Caretta caretta), leatherback (Dermochelys coriacea), green (Chelonia mydas), Kemp's ridley (Lepidochelys kempii), hawksbill (Eretmochelys imbricata), and olive ridley (Lepidochelys olivacea) sea turtles for purposes of scientific research.

ADDRESSES: The permit and related documents are available for review upon written request or by appointment in the following offices:

Permits, Conservation and Education Division, Office of Protected Resources, NMFS, 1315 East-West Highway, Room 13705, Silver Spring, MD 20910; phone (301)713-2289; fax (301)713-0376;

Southeast Region, NMFS, 9721 Executive Center Drive North, St. Petersburg, FL 33702-2432; phone (727)570-5301; fax (727)570-5320; and

Northeast Region, NMFS, One Blackburn Drive, Gloucester, MA 01930-2298; phone (978)281-9328; fax (978)281-9371.

FOR FURTHER INFORMATION CONTACT: Patrick Opay (301) 713-1401, or Carrie Hubard (301) 713-2289.

SUPPLEMENTARY INFORMATION: On April 1, 2003, notice was published in the Federal Register (68 FR 15707) that a request for a scientific research permit to take loggerhead, leatherback, green, hawksbill, olive ridley, and Kemp's ridley sea turtles had been submitted by the above-named organization. The requested permit has been issued under the authority of the Endangered Species Act of 1973, as amended (ESA; 16 U.S.C. 1531 et seq.) and the regulations governing the taking, importing, and exporting of endangered and threatened species (50 CFR parts 222-226).

The permit will allow the SEFSC to conduct sea turtle bycatch reduction research in the pelagic longline fishery of the western north Atlantic Ocean. The purpose of the research is to develop and test methods to reduce bycatch that occurs incidental to commercial, pelagic longline fishing. The goal is to develop a means to reduce turtle take and retain viable fishing performance that may be adopted by the U.S. pelagic longline fleet as an alternative to more restrictive sea turtle protection measures, such as closures. The technologies developed through this research are expected to be transferrable to other nations' fleets as well, so this work will address the larger problem of sea turtle bycatch by pelagic longlines throughout the entire Atlantic Ocean and in other regions where sea turtle bycatch is a concern. The research will also attempt to determine the feasibility of using pop-up satellite tags to study the post-hooking survival of turtles impacted by the fishery. The permit expires on December 31, 2003.

Issuance of this permit, as required by the ESA, was based on a finding that such permit (1) was applied for in good faith, (2) will not operate to the disadvantage of the endangered species which is the subject of this permit, and (3) is consistent with the purposes and policies set forth in section 2 of the ESA.

Dated: June 20, 2003.
Stephen L. Leathery,
Chief, Permits, Conservation and Education Division, Office of Protected Resources, National Marine Fisheries Service.

[FR Doc. 03-16217 Filed 6-25-03; 8:45 am]

BILLING CODE 3510-22-S